DEPARTMENT OF ENERGY

Federal Energy Regulatory Commission

[Project No. 2362-044]

Allete, Inc.; Notice of Application Tendered for Filing With the Commission and Establishing Procedural Schedule for Licensing and Deadline for Submission of Final Amendments

Take notice that the following hydroelectric application has been filed with the Commission and is available for public inspection.

a. Type of Application: New Major License.

b. Project No.: 2362-044.

c. Date filed: December 20, 2021.

d. Applicant: Allete, Inc. (Allete).

e. Name of Project: Grand Rapids Hydroelectric Project (Grand Rapids Project).

f. Location: On the Mississippi River near the City of Grand Rapids in Itasca County, Minnesota. The project does not include any federal lands.

g. Filed Pursuant to: Federal Power Act 16 U.S.C. 791(a)-825(r).

h. Applicant Contact: Mr. David R. Moeller, Senior Attorney & Director of Regulatory Compliance, ALLETE, Inc., d.b.a. Minnesota Power, 30 West Superior Street, Duluth, MN 55802, 218-723-3963, dmoeller@allete.com.

i. FERC Contact: Laura Washington (202) 502-6072, Laura.Washington@ferc.gov.

j. This application is not ready for environmental analysis at this time.

k. The Grand Rapids Project consists of the following existing facilities: (1) 465-acre reservoir; (2) a concrete dam; (3) and a 425-foot-long, 2.4-kilovolt transmission line extending from the powerhouse to the non-project Blandin Paper Mill; and (4) a powerhouse containing two generating units with a total installed capacity of 2.1 megawatts.

The Grand Rapids Project is currently operated in a run-of-river mode and generates an annual average of approximately 6,424,000 kilowatt hours. Allete proposes to continue operating the project as a run-of-river facility and does not propose any new construction to the project.

l. A copy of the application can be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Issue Deficiency Letter (if necessary) | January 2022.
Request Additional Information | February 2022.
Notice of Acceptance/Notice of Ready for Environmental Analysis | June 2022.

o. Final amendments to the application must be filed with the Commission no later than 30 days from the issuance date of the notice of ready for environmental analysis.

Dated: December 22, 2021.
Kimberly D. Bose,
Secretary.

[FR Doc. 2021-28296 Filed 12-28-21; 8:45 am]

BILLING CODE 6717-01-P1065